DEPARTMENT OF LABOR

Office of the Secretary

Submission for OMB Review; Comment Request

January 13, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor. To obtain documentation, contact Ira Mills on 202-693-4122 (this is not a toll-free number) or e-mail: mills.ira@dol.gov.

Comments should be sent to Office of Information and Regulatory Affairs, Attn: OMB Desk Officer for the 'Employment and Training Administration (ETA), Office of Management and Budget, Room 10235, Washington, DC 20503 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension of a currently approved collection.

Title: Worker Profiling and Reemployment Services Activity and Worker Profiling and Reemployment Services Outcomes.

OMB Number: 1205-0353.

Affected Public: State, local, or tribal Government.

Type of Response: Reporting.

Frequency: Quarterly.

Number of Respondents: 53.

Annual Responses: 424.

Total Burden: 106.

Total Annualized Capital/Startup Costs: $0.

Total Annual Costs (operating/maintaining systems or purchasing services: $0.

Description: The Secretary has interpreted applicable sections of Federal law to require States to identify claimants who are most likely to exhaust their UI benefits and to provide reemployment services to expedite their return to suitable work. The ETA 9048 report provides a count of the claimants who were referred to Worker Profiling and Reemployment Services (WPRS) and a count of those who completed the services. A second report (ETA 9049) provides the subsequent collection of wage records which is a useful management tool for monitoring the success of the WPRS program in the state.

Ira L. Mills,
Departmental Clearance Officer.

[FR Doc. 04-1312 Filed 1-21-04; 8:45 am]

BILLING CODE 4510-30-M